SMALL BUSINESS ADMINISTRATION

[Declaration of Disaster #3590]

Commonwealth of Kentucky (Amendment #2)

In accordance with a notice received from the Department of Homeland Security—Federal Emergency Management Agency, effective June 21, 2004, the above numbered declaration is hereby amended to include Bath, Daviess, Fleming, Hancock, Lewis, Mason, Nicholas, and Robertson Counties as disaster areas due to damages caused by severe storms, tornadoes, flooding, and mudslides occurring on May 26, 2004 and continuing through June 18, 2004. In addition, applications for economic injury loans from small businesses located in the contiguous county of Bracken in the Commonwealth of Kentucky; and Adams, Brown, and Scioto Counties in the State of Ohio may be filed until the specified date at the previously designated location. All other counties contiguous to the above named primary counties have been previously declared. The number assigned to this disaster for economic injury is 9ZK200 for Ohio. All other information remains the same, i.e., the deadline for filing applications for physical damage is August 9, 2004, and for economic injury the deadline is March 10, 2005.

Dated: June 23, 2004.
(Catalog of Federal Domestic Assistance Program Nos. 59002 and 59008)
Cheri L. Cannon,
Acting Associate Administrator for Disaster Assistance.

[FR Doc. 04-14803 Filed 6-29-04; 8:45 am]

BILLING CODE 8025-01-P